DEPARTMENT OF COMMERCE

Census Bureau

Manufacturers' Shipments, Inventories, and Orders (M3) Survey

ACTION: Proposed collection; comment request

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 4, 2003.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument and instructions should be directed to G. Daniel Sansbury, Census Bureau, FOB #4 Room 2232, Washington, DC 20233-6913, (301) 763-4834 or via the Internet at g.daniel.sansbury@census.gov.

SUPPLEMENTARY INFORMATION:

I. Abstract

The Manufacturers' Shipments, Inventories, and Orders (M3) survey requests data from domestic manufacturers on form M-3(SD), which will be mailed at the end of each month. Data requested are shipments, new orders, unfilled orders, total inventory, materials and supplies, work-in-process, and finished goods. It is currently the only survey that provides broad-based monthly statistical data on the economic conditions in the domestic manufacturing sector.

The M3 survey is designed to measure current industrial activity and to provide an indication of future production commitments. The value of shipments measures the value of goods delivered during the month by domestic manufacturers. Estimates of new orders serve as an indicator of future production commitments and represent the current sales value of new orders received during the month, net of cancellations. Substantial accumulation or depletion of unfilled orders measures excess or deficient demand for manufactured products. The level of inventories, especially in relation to shipments, is frequently used to monitor the business cycle.

The estimated total annual burden hours have decreased from 24,000 to 13,860 due to a decrease in the number of respondents.

II. Method of Collection

Respondents submit data on form M-3(SD) via mail, facsimile machine, Touchtone Data Entry (TDE), Voice Recognition Entry (VRE), or via the Internet. Analysts call cooperative respondents who have not reported in time for preparing the monthly estimates.

III. Data

OMB Number: 0607-0008.

Form Number: M-3(SD).

Type of Review: Regular.

Affected Public: Businesses, large and small, or other for profit.

Estimated Number of Respondents: 3,500.

Estimated Time Per Response: .33 hour.

Estimated Total Annual Burden Hours: 13,860.

Estimated Total Annual Cost: $302,425.

Respondent's Obligation: Voluntary.

Legal Authority: Title 13, United States Code, sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 28, 2003.
Madeleine Clayton,
Management Analyst, Office of the Chief Information Officer.

[FR Doc. 03-2362 Filed 1-31-03; 8:45 am]

BILLING CODE 3510-70-P